SECURITIES AND EXCHANGE COMMISSION

Sunshine Act Meeting

FEDERAL REGISTER CITATION OF PREVIOUS ANNOUNCEMENT: [77 FR 39749, July 5, 2012].

STATUS: Open Meeting.

PLACE: 100 F Street NW., Washington, DC.

DATE AND TIME OF PREVIOUSLY ANNOUNCED MEETING: August 22, 2012 at 10 a.m.

CHANGE IN THE MEETING: Deletion of an Item.

The following item will not be considered during the Commission's Open Meeting on August 22, 2012 at 10 a.m.:

The Commission will consider rules to eliminate the prohibition against general solicitation and general advertising in securities offerings conducted pursuant to Rule 506 of Regulation D under the Securities Act and Rule 144A under the Securities Act, as mandated by Section 201(a) of the Jumpstart Our Business Startups Act.

This item is being rescheduled for consideration at an Open Meeting on August 29, 2012 as announced in a separate meeting notice.

At times, changes in Commission priorities require alterations in the scheduling of meeting items. For further information and to ascertain what, if any, matters have been added, deleted or postponed, please contact the Office of the Secretary at (202) 551-5400.

Dated: August 21, 2012.
Elizabeth M. Murphy,
Secretary.

[FR Doc. 2012-20900 Filed 8-21-12; 4:15 pm]

BILLING CODE 8011-01-P